DEPARTMENT OF HOMELAND SECURITY

8 CFR Parts 212, 214, 245 and 274a

[CIS No. 2507-11; DHS Docket No USCIS-2011-0010]

RIN 1615-AA59

Classification for Victims of Severe; Forms of Trafficking in Persons; Eligibility for “T” Nonimmigrant Status; Extension of Comment Period

AGENCY: U.S. Citizenship and Immigration Services, Department of Homeland Security.

ACTION: Interim final rule; extension of the comment period.

SUMMARY: On July 16, 2021, the Department of Homeland Security (DHS) reopened the public comment period for the interim final rule titled “Classification for Victims of Severe Forms of Trafficking in Persons; Eligibility for “T” Nonimmigrant Status,” with a comment period ending August 16, 2021. DHS is announcing that the reopened comment period will be extended an additional 30 days. As part of this rulemaking, DHS will consider comments received during the entire public comment period, including comments received since July 16, 2021.

DATES: The comment period for the interim final rule published at 81 FR 92266 (Dec. 19, 2016), which was reopened on July 16, 2021, at 86 FR 37670, is extended. Written comments and related material must be submitted on or before September 14, 2021.

ADDRESSES: You may submit comments on the entirety of this rule package, to include the related information collection requirements set forth in the 2016 interim final rule (IFR), which is identified as DHS Docket No. USCIS-2011-0010, through the Federal eRulemaking Portal http://www.regulations.gov. Follow the website instructions for submitting comments. Comments submitted in another manner, including emails or letters sent to DHS or U.S. Citizenship and Immigration Services (USCIS) officials, will not be considered comments on the rule and may not receive a response from DHS. Please note that DHS and USCIS cannot accept any comments that are hand delivered or couriered. In addition, USCIS cannot accept comments contained on any form of digital media storage devices, such as CDs/DVDs and USB drives. Due to COVID-19, USCIS is also not accepting mailed comments at this time. If you cannot submit your comment by using http://www.regulations.gov, please contact Samantha Deshommes, Chief, Regulatory Coordination Division, Office of Policy and Strategy, U.S. Citizenship and Immigration Services, Department of Homeland Security, by telephone at 240-721-3000 for alternate instructions.

FOR FURTHER INFORMATION CONTACT: Andria Strano, Acting Branch Chief, Humanitarian Affairs Division, Office of Policy and Strategy, U.S. Citizenship and Immigration Services, DHS, 5900 Capital Gateway Drive, Camp Springs, MD 20746; telephone 240-721-3000 (this is not a toll-free number). Individuals with hearing or speech impairments may access the telephone numbers above via TTY by calling the toll-free Federal Information Relay Service at 1-877-889-5627 (TTY/TDD).

SUPPLEMENTARY INFORMATION: Interested persons are invited to participate in this rulemaking by submitting written data, views, or arguments on all aspects of this rule. DHS also invites comments that relate to the economic or federalism effects that might result from this rule. Comments that will provide the most assistance to DHS will reference a specific portion of the rule, explain the reason for any recommended change, and include data, information, or authority that support such recommended change.

Instructions: All submissions received must include the agency name and DHS Docket No. USCIS-20011-0010. Providing comments is entirely voluntary. Regardless of how comments are submitted to DHS, all submissions will be posted, without change, to the Federal eRulemaking Portal at http://www.regulations.gov and will include any personal information provided by commenters. Because the information submitted will be publicly available, commenters should consider limiting the amount of personal information provided in each submission. DHS may withhold information provided in comments from public viewing if it determines that such information is offensive or may affect the privacy of an individual. For additional information, please read the Privacy Act notice available through the link in the footer of http://www.regulations.gov.

Docket: For access to the docket, go to http://www.regulations.gov and enter this rulemaking's eDocket number USCIS 2011-0010.

Background

On December 19, 2016, DHS published an interim final rule (IFR) in the Federal Register at 81 FR 92266 and received 17 public comments. In this IFR, USCIS amended its regulations governing the classification for Victims of Severe Forms of Trafficking in Persons; Eligibility for T Nonimmigrant Status, see Immigration and Nationality Act (INA) sec. 101(a)(15)(T), 8 U.S.C. 1101(a)(15)(T). On July 16, 2021, at 86 FR 37670, DHS published a document reopening the comment period for this rulemaking for 30 days, with the deadline to submit comments set at August 16, 2021. DHS has received a request from multiple stakeholders to extend the deadline for submitting public comments during the reopened public comment period. In response to that request, DHS is extending the reopened comment period for an additional 30 days, to provide a total of 60 days for the public to submit comments. Through this document, DHS is extending the comment period for the IFR published in the Federal Register at 86 FR 37670 until September 14, 2021. DHS will consider comments received during the entire public comment period, including comments received since July 16, 2021.

Ur M. Jaddou,
Director, U.S. Citizenship and Immigration Services.

[FR Doc. 2021-17510 Filed 8-12-21; 8:45 am]

BILLING CODE 9111-97-P